NUCLEAR REGULATORY COMMISSION

Advisory Committee on Reactor Safeguards, Subcommittee Meeting on Severe Accident Management; Cancellation

The meeting of the ACRS Subcommittee on Severe Accident Management scheduled for May 18, 2000, in Room T-2B3, 11545 Rockville Pike, Rockville, Maryland has been canceled. Notice of this meeting was previously published in the Federal Register on Monday, May 8, 2000 (65 FR 26644).

Further information contact: Mr. Paul A. Boehnert, cognizant ACRS staff engineer, (telephone 301/415-8065) between 7:30 a.m. and 4:15 p.m. (EDT).

Dated: May 11, 2000.
Howard J. Larson,
Acting Associate Director for Technical Support, ACRS/ACNW.

[FR Doc. 00-12552 Filed 5-17-00; 8:45 am]

BILLING CODE 7590-01-P